DEPARTMENT OF ENERGY

Federal Energy Regulatory Commission

Combined Notice of Filings #2

Take notice that the Commission received the following electric corporate filings:

Docket Numbers: EC15-44-000.

Applicants: Blue Sky East, LLC, Canandaigua Power Partners, LLC, Canandaigua Power Partners II, LLC, Erie Wind, LLC, Evergreen Gen Lead,

LLC, Evergreen Wind Power, LLC, Evergreen Wind Power III, LLC, First Wind Energy Marketing, LLC, Longfellow Wind, LLC, Maine GenLead, LLC, Milford Wind Corridor Phase I, LLC, Milford Wind Corridor Phase II, LLC, Niagara Wind Power, LLC, Palouse Wind, LLC, Stetson Holdings, LLC, Stetson Wind II, LLC, Vermont Wind, LLC, TerraForm Power, LLC, SunEdison, Inc.

Description: Application for Authorization of the First Wind Applicants Under Section 203 of the Federal Power Act and Request for Waivers, Confidential Treatment, Expedited Action and Shortened Comment Period.

Filed Date: 12/2/14.

Accession Number: 20141202-5133.

Comments Due: 5 p.m. ET 12/23/14.

Take notice that the Commission received the following electric rate filings:

Docket Numbers: ER10-2822-007; ER14-2676-001; ER12-96-004; ER12-422-004; ER12-308-005; ER12-2649-002; ER12-2109-003; ER12-2108-003; ER12-2107-003; ER12-2106-003; ER12-2102-003; ER12-2101-003; ER12-2097-003; ER12-2086-003; ER12-2084-003; ER12-2083-003; ER12-2081-003; ER12-2078-003; ER12-2077-003; ER12-2076-003; ER11-2475-005; ER11-2474-007; ER11-2473-005; ER11-2472-005; ER11-2471-005; ER11-2470-005; ER11-2469-005; ER11-2468-005; ER11-2467-005; ER11-2466-005; ER11-2465-006; ER11-2464-005; ER11-2463-005; ER11-2462-005; ER11-2196-006; ER11-2112-006; ER10-3162-005; ER10-3161-005; ER10-3158-005; ER10-3031-002; ER10-3010-002; ER10-3004-003; ER10-3002-002; ER10-3001-003; ER10-2994-011; ER10-2942-004; ER10-2828-002; ER10-2822-007; ER10-2423-005; ER10-2404-005; ER10-1725-002.

Applicants: Atlantic Renewable Projects II LLC, Barton Windpower LLC, Big Horn Wind Project LLC, Big Horn II Wind Project LLC, Blue Creek Wind Farm LLC, Buffalo Ridge I LLC, Buffalo Ridge II LLC, Casselman Windpower LLC, Colorado Green Holdings LLC, Dillon Wind LLC, Elm Creek Wind, LLC, Elm Creek Wind II LLC, Farmers City Wind, LLC, Flat Rock Windpower LLC, Flat Rock Windpower II LLC, Flying Cloud Power Partners, LLC, Groton Wind, LLC, Hardscrabble Wind Power LLC, Hay Canyon Wind LLC, Iberdrola Arizona Renewables, LLC, Iberdrola Renewables, LLC, Juniper Canyon Wind Power LLC, Klamath Energy LLC, Klamath Generation LLC, Klondike Wind Power LLC, Klondike Wind Power II LLC, Klondike Wind Power III LLC, Leaning Juniper Wind Power II LLC, Lempster Wind, LLC, Locust Ridge Wind Farm, LLC, Locust Ridge II, LLC, Manzana Wind LLC, MinnDakota Wind LLC, Moraine Wind LLC, New England Wind, LLC, Northern Iowa Windpower II LLC, Moraine Wind II LLC, Pebble Springs Wind LLC, Providence Heights Wind, LLC, Rugby Wind LLC, San Luis Solar LLC, Shiloh I Wind Project, LLC, South Chestnut LLC, Star Point Wind Project LLC, Streator-Cayuga Ridge Wind Power LLC, Trimont Wind I LLC, Twin Buttes Wind LLC, Elk River Windfarm, LLC, New Harvest Wind Project LLC, Mountain View Power Partners III, LLC.

Description: Notice of Change in Status of the Iberdrola MBR Sellers.

Filed Date: 12/1/14.

Accession Number: 20141201-5305.

Comments Due: 5 p.m. ET 12/22/14.

Docket Numbers: ER10-3154-001.

Applicants: Niagara Generation, LLC.

Description: Notice of Change in Status of Niagara Generation, LLC.

Filed Date: 12/2/14.

Accession Number: 20141202-5138.

Comments Due: 5 p.m. ET 12/23/14.

Docket Numbers: ER11-47-004; ER14-594-004; ER14-2477-001; ER14-2476-001; ER14-2475-001; ER13-1896-006; ER12-2343-002; ER12-1544-002; ER12-1542-002; ER12-1541-002; ER12-1540-002; ER11-46-007; ER11-41-004; ER10-2981-004; ER10-2975-007.

Applicants: Appalachian Power Company, Indiana Michigan Power Company, Kentucky Power Company, Kingsport Power Company, Wheeling Power Company, AEP Texas Central Company, AEP Texas North Company, Public Service Company of Oklahoma, Southwestern Electric Power Company, Ohio Power Company, AEP Energy Partners, Inc., CSW Energy Services, Inc., AEP Retail Energy Partners LLC, AEP Energy, Inc., AEP Generation Resources Inc.

Description: Notice of Non-Material Change in status of the AEP MBR affiliates.

Filed Date: 12/1/14.

Accession Number: 20141201-5304.

Comments Due: 5 p.m. ET 12/22/14.

Docket Numbers: ER15-554-000.

Applicants: California Independent System Operator Corporation.

Description: § 205(d) rate filing per 35.13(a)(2)(iii): 2014-12-02_PFP_YearOneChanges to be effective 1/1/2015.

Filed Date: 12/2/14.

Accession Number: 20141202-5081.

Comments Due: 5 p.m. ET 12/23/14.

Docket Numbers: ER15-555-000.

Applicants: ISO New England Inc., New England Power Pool Participants Committee.

Description: Installed Capacity Requirements, Hydro-Quebec Interconnection Capability Credits and Related Values for 2015/2016, 2016/2017 and 2017/2018 Annual Reconfiguration Auctions of ISO New England, Inc.

Filed Date: 12/2/14.

Accession Number: 20141202-5087.

Comments Due: 5 p.m. ET 12/23/14.

Docket Numbers: ER15-556-000.

Applicants: Direct Energy Small Business, LLC

Description: § 205(d) rate filing per 35.13(a)(2)(iii): Normal 3.0 to be effective 12/3/2014.

Filed Date: 12/2/14.

Accession Number: 20141202-5100.

Comments Due: 5 p.m. ET 12/23/14.

Docket Numbers: ER15-557-000.

Applicants: ITC Midwest LLC.

Description: § 205(d) rate filing per 35.13(a)(2)(iii): Filing of a Joint Use Pole Agreement to be effective 2/2/2015.

Filed Date: 12/2/14.

Accession Number: 20141202-5107.

Comments Due: 5 p.m. ET 12/23/14.

Docket Numbers: ER15-558-000.

Applicants: Direct Energy Business Marketing, LLC.

Description: § 205(d) rate filing per 35.13(a)(2)(iii): Normal 2.0 to be effective 12/3/2014.

Filed Date: 12/2/14.

Accession Number: 20141202-5118.

Comments Due: 5 p.m. ET 12/23/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 2, 2014.
Nathaniel J. Davis, Sr.,
Deputy Secretary.

[FR Doc. 2014-28741 Filed 12-8-14; 8:45 am]

BILLING CODE 6717-01-P